DEPARTMENT OF TRANSPORTATION

Federal Aviation Administration

14 CFR Part 71

[Docket No. FAA-2022-0265; Airspace Docket No. 19-AAL-55]

RIN 2120-AA66

Establishment of United States Area Navigation (RNAV) Route T-386 in the Vicinity of Fairbanks, AK

AGENCY: Federal Aviation Administration (FAA), DOT.

ACTION: Final rule; correction.

SUMMARY: The FAA is correcting a final rule published by the FAA in the Federal Register on July 25, 2023, that establishes United States Area Navigation (RNAV) T-route T-386 in the vicinity of Fairbanks, AK, in support of a large and comprehensive T-route modernization project for the state of Alaska. The geographical coordinates listed in the route description are incorrect.

DATES: Effective date 0901 UTC, October 5, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

History

The FAA published a final rule for Docket No. FAA-2022-0265 in the Federal Register (88 FR 47757; July 25, 2023), that establishes RNAV T-route T-386 in the vicinity of Fairbanks, AK. The geographical coordinates listed in the route description are incorrect.

Correction to Final Rule

Accordingly, pursuant to the authority delegated to me, the geographical coordinates in Docket No. FAA-2022-0265, as published in the Federal Register of July 25, 2023 (88 FR 47757), FR Doc. 2023-15674, on page 47758, the geographical coordinates for RNAV T-route T-386 in the vicinity of Fairbanks, AK are corrected to read as follows:

* * * * *

T-386 Fairbanks, AK (FAI) to WEXIK, AK [New]
Fairbanks, AK (FAI) | VORTAC | (Lat. 64°48′00.25″ N, long. 148°00′43.11″ W)
DEYEP, AK | FIX | (Lat. 65°12′15.59″ N, long. 145°31′19.80″ W)
WUTGA, AK | WP | (Lat. 65°21′19.16″ N, long. 145°29′46.87″ W)
FIXEG, AK | WP | (Lat. 65°34′22.46″ N, long. 144°47′14.83″ W)
JEGPA, AK | WP | (Lat. 65°36′37.54″ N, long. 144°25′23.87″ W)
WEXIK, AK | WP | (Lat. 65°49′39.86″ N, long. 144°04′50.79″ W)

* * * * *

Issued in Washington, DC, on July 27, 2023.
Karen L. Chiodini,
Acting Manager, Rules and Regulations Group.

[FR Doc. 2023-16316 Filed 8-9-23; 8:45 am]

BILLING CODE 4910-13-P